DEPARTMENT OF COMMERCE

National Oceanic and Atmospheric Administration

[I.D. 051304A]

Fisheries of the Caribbean, Gulf of Mexico, and South Atlantic; Final Environmental Impact Statement Addressing Essential Fish Habitat Requirements of the Fishery Management Plans of the U.S. Caribbean

AGENCY: National Marine Fisheries Service (NMFS), National Oceanic and Atmospheric Administration (NOAA), Commerce.

ACTION: Notice of availability of a Record of Decision.

SUMMARY: In compliance with the National Environmental Policy Act of 1969, NMFS announces the availability of a Record of Decision (ROD) regarding a final environmental impact statement (FEIS) that was prepared to determine whether to amend the fishery management plans of the Caribbean Fishery Management Council to address essential fish habitat (EFH) requirements of the Magnuson-Stevens Fishery Conservation and Management Act (Magnuson-Stevens Act). This ROD documents the decision by NMFS to proceed with such an amendment to: describe and identify EFH for each fishery; identify other actions to encourage the conservation and enhancement of such EFH; and identify measures to prevent, mitigate or minimize to the extent practicable the adverse effects of fishing on such EFH.

ADDRESSES: Copies of the ROD and the FEIS can be obtained from NMFS, Southeast Regional Office, 9721 Executive Center Drive North, St. Petersburg, FL 33702; telephone: 727-570-5317.

FOR FURTHER INFORMATION CONTACT: David Dale, Fishery Biologist, 727-570-5317, fax: 727-570-5300; email: david.dale@noaa.gov.

SUPPLEMENTARY INFORMATION: NMFS Southeast Region was the lead agency responsible for preparing, under third party contract, an FEIS for the Generic Essential Fish Habitat Amendment (EFH Amendment) for the spiny lobster, queen conch, reef fish, and coral fishery management plans for the U.S. Caribbean. The FEIS evaluates alternatives for bringing the EFH Amendment into compliance with the EFH mandates of the Magnuson-Stevens Act. For each of the four Caribbean fisheries, the FEIS analyzes a range of potential alternatives to: (1) describe and identify EFH for the fishery; (2) identify other actions to encourage the conservation and enhancement of such EFH; and (3) identify measures to minimize, to the extent practicable, the adverse effects of fishing on such EFH. The FEIS contains the methods and data used in the analyses, background information on the physical, biological, human, and administrative environments, and a description of the fishing and non-fishing threats to EFH. The notice of availability of the FEIS was published on April 23, 2004 (69 FR 22025).

The ROD documents NMFS' decision to proceed, in cooperation with the Caribbean Fishery Management Council (Council), with amending the spiny lobster, queen conch, reef fish, and coral fishery management plans for the U.S. Caribbean to implement the Council's preferred alternatives for identifying EFH, identifying habitat areas of particular concern, and preventing, mitigating, or minimizing the adverse effects of fishing on EFH. The ROD identifies all alternatives considered in reaching the decision, specifies the alternatives which were considered to be environmentally preferable, and identifies and discusses relevant factors which were balanced by NMFS in making its decision. A copy of the ROD will be mailed to individuals, agencies, or companies that commented on the draft and final EISs. In addition, copies of the ROD and FEIS are available from NMFS (see ADDRESSES).

Authority: 16 U.S.C. 1801 et seq.

Dated: May 20, 2004.
John Oliver,
Deputy Assistant Administrator for Operations, National Marine Fisheries Service.

[FR Doc. 04-11802 Filed 5-24-04; 8:45 am]

BILLING CODE 3510-22-S